DEPARTMENT OF TRANSPORTATION

Federal Aviation Administration

Notice of Opportunity for Public Comment on Release of Federal Property at Cartersville Airport, Cartersville, GA.

AGENCY: Federal Aviation Administration (FAA), DOT.

ACTION: Notice.

SUMMARY: Under the provisions of Title 49, U.S.C. Section 47153(c), notice is being given that the FAA is considering a request from the Cartersville—Bartow County Airport Authority to waive the requirement that 1.095 acres in fee simple of federal property, located at the Cartersville Airport, be used for aeronautical purposes.

DATES: Comments must be received on or before March 31, 2008.

ADDRESSES: Comments on this notice may be mailed or delivered in triplicate to the FAA at the following address: Atlanta Airports District Office, Attn: Aimee A. McCormick, Program Manager, 1701 Columbia Ave., Suite 2-260, Atlanta, GA 30337-2747.

In addition, one copy of any comments submitted to the FAA must be mailed or delivered to Keith Lovell, Attorney for Cartersville—Bartow County Airport Authority at the following address: 336 S. Tennessee Street, P.O. Box 1024, Cartersville, GA 30120.

FOR FURTHER INFORMATION CONTACT: Aimee McCormick, Program Manager, Atlanta Airports District Office, 1701 Columbia Ave., Suite 2-260, Atlanta, GA 30337-2747, (404) 305-7143. The application may be reviewed in person at this same location.

SUPPLEMENTARY INFORMATION: The FAA is reviewing a request by the Cartersville—Bartow County Airport Authority to release 1.095 acres of federal property at the Cartersville Airport. The property will be released for purchase by Georgia Department of Transportation (GDOT) to improve and widen Highway 61/113. The net proceeds from the sale of this property will be used for airport purposes. The proposed use of this property is compatible with airport operations.

Any person may inspect the request in person at the FAA office listed above under FOR FURTHER INFORMATION CONTACT. In addition, any person may, upon request, inspect the request, notice and other documents germane to the request in person at the Cartersville—Bartow County Airport Authority.

Issued in Atlanta, Georgia on February 12, 1008.
Larry F. Clark,
Assistant Manager, Atlanta Airports District Office, Southern Region.

[FR Doc. 08-874 Filed 2-27-08; 8:45 am]

BILLING CODE 4910-13-M